ENVIRONMENTAL PROTECTION AGENCY

[FRL-9978-54-OW]

Extension of the Application Deadline Date for Credit Assistance Under the Water Infrastructure Finance and Innovation Act (WIFIA) Program

AGENCY: Environmental Protection Agency (EPA).

ACTION: Notice.

SUMMARY: The Environmental Protection Agency (EPA) extends the deadline to submit a letter of interest (LOI) from prospective borrowers seeking credit assistance from EPA. EPA takes this action to allow more time for the preparation and submission of LOIs by prospective borrowers.

DATES: Deadline for Submittal of Letter of Interest: 12:00 p.m. (noon) EDT on July 31, 2018.

ADDRESSES: Prospective borrowers should submit all LOIs electronically via email at: wifia@epa.gov or via EPA's SharePoint site. To be granted access to the SharePoint site, prospective borrowers should contact wifia@epa.gov and request a link to the SharePoint site, where they can securely upload their LOIs. Requests to upload documents should be made no later than 12:00 p.m. (noon) EDT on July 27, 2018.

EPA will notify prospective borrowers that their letter of interest has been received via a confirmation email.

Prospective borrowers can access additional information, including the WIFIA program handbook and application materials, on the WIFIA website: https://www.epa.gov/wifia/.

SUPPLEMENTARY INFORMATION: On April 12, 2018 EPA published in the Federal Register (83 FR 15828) a Notice of Funding Availability (NOFA) to solicit letters of interest (LOIs) from prospective borrowers seeking credit assistance from EPA. The deadline in the NOFA for submitting a LOI was July 6, 2018. EPA is extending this deadline to provide additional time for the preparation and submission of LOIs by prospective borrowers.

All information in the NOFA published on April 12, 2018 (83 FR 15828), remains the same, except for the deadline date, which has been changed to 12:00 p.m. (noon) EDT on July 31, 2018, and the deadline to request a link to EPA's SharePoint site to upload documents, which has been changed to 12:00 p.m. (noon) EDT on July 27, 2018.

EPA will host a question and answer webinar about submitting a LOI on May 30, 2018 at 2:00 p.m. EDT. EPA will also host a webinar providing an overview of the WIFIA program and the current LOI submittal round on June 4, 2018 at 2:00 p.m. EDT. Registration directions can be found on the WIFIA program website: www.epa.gov/wifia.

Prospective borrowers with questions about the program or interest in meeting with WIFIA program staff may send a request to wifia@epa.gov. EPA will meet with all prospective borrowers interested in discussing the program, but only prior to submission of a LOI.

Authority: 33 U.S.C. 3901-3914; 40 CFR part 35.

Dated: May 15, 2018.
Andrew D. Sawyers,
Director, Office of Wastewater Management.

[FR Doc. 2018-11577 Filed 5-29-18; 8:45 am]

BILLING CODE 6560-50-P